DEPARTMENT OF COMMERCE

[Docket No. 150720626-5626-01]

Privacy Act of 1974; Amended System of Records

AGENCY: U.S. Department of Commerce, National Oceanic and Atmospheric Administration.

ACTION: Notice of Proposed Amendment to Privacy Act System of Records: COMMERCE/NOAA-19, Permits and Registrations for United States Federally Regulated Fisheries.

SUMMARY: This notice announces the Department of Commerce's (Department) proposal to amend the system of records entitled “COMMERCE/NOAA-19, Permits and Registrations for United States Federally Regulated Fisheries,” under the Privacy Act of 1974, as amended. The National Oceanic and Atmospheric Administration's (NOAA) National Marine Fisheries Service (NMFS) is revising its system of records for permits and non-permit registrations for use with a variety of fisheries management programs. Information will be collected from individuals under the authority of the Magnuson-Stevens Fishery Conservation and Management Act, the High Seas Fishing Compliance Act, the American Fisheries Act, the Tuna Conventions Act of 1950, the Atlantic Coastal Fisheries Cooperative Management Act, the Atlantic Tunas Convention Authorization Act, the Northern Pacific Halibut Act, the Antarctic Marine Living Resources Convention Act, the Western and Central Pacific Fisheries Convention Implementation Act, international fisheries regulations regarding U.S. Vessels Fishing in Colombian Treaty Waters, and the Marine Mammal Protection Act. This revised record system is necessary to identify participants in the fisheries and to evaluate the qualifications of the applicants. We invite public comment on the amended system announced in this publication.

DATES: To be considered, written comments must be submitted on or before September 8, 2015. Unless comments are received, the new system of records will become effective as proposed on the date of publication of a subsequent notice in the Federal Register.

ADDRESSES: Comments may be mailed to Sarah Brabson, NOAA Office of the Chief Information Officer, Room 9856, 1315 East-West Highway, Silver Spring, MD 20910.

FOR FURTHER INFORMATION CONTACT: Sarah Brabson, NOAA Office of the Chief Information Officer, Room 9856, 1315 East-West Highway, Silver Spring, MD 20910.

SUPPLEMENTARY INFORMATION: NMFS is revising its system of records for permit and non-permit registrations for use with a variety of fisheries management programs. NMFS requires the use of permits or registrations by participants in U.S. Federally regulated fisheries. Information collections would be requested from individuals under the authority of the Magnuson-Stevens Fishery Conservation and Management Act, the High Seas Fishing Compliance Act, the American Fisheries Act, the Atlantic Coastal Fisheries Cooperative Management Act, the Tuna Conventions Act of 1950, the Atlantic Tunas Convention Authorization Act, the Northern Pacific Halibut Act, the Antarctic Marine Living Resources Convention Act, the Western and Central Pacific Fisheries Convention Implementation Act, International Fisheries Regulations regarding U.S. Vessels Fishing in Colombian Treaty Waters, the Marine Mammal Protection Act, the Endangered Species Act and the Fur Seal Act. The collection of information is necessary to identify participants in these fisheries and to evaluate the qualifications of the applicants. NMFS would collect information from individuals in order to issue, renew, or transfer fishing permits, or to make non-permit registrations. NMFS may use lists of permit holders, or registrants as sample frames for the conduct of surveys to collect information necessary to the administration of the statutes cited above. The authority for the mandatory collection of the Tax Identification Number (Employer Identification Number or Social Security Number) is 31 U.S.C. 7701.

COMMERCE/NOAA-19

SYSTEM NAME:

COMMERCE/NOAA-19, Permits and Registrations for United States Federally Regulated Fisheries.

SECURITY CLASSIFICATION:

None.

SYSTEM LOCATION:

a. NMFS Greater Atlantic Region, 55 Great Republic Dr., Gloucester, MA 01930 (includes Atlantic Highly Migratory Species (HMS) Tuna Dealer permits).

b. NMFS Southeast Region, 263 13th Avenue South, St. Petersburg FL 33701 (includes HMS International Trade Permit, Shark and swordfish vessel permits, shark and swordfish dealer permits).

c. NMFS West Coast Region, Sustainable Fisheries Division, 7600 Sand Point Way NE., Bldg. #1, Seattle, WA 98115.

d. NMFS West Coast Region, 501 West Ocean Boulevard, Suite 4200, Long Beach, CA 90802.

e. NMFS Southwest Fisheries Science Center, 8604 La Jolla Shores Drive, La Jolla, CA 92037 (Pacific Highly Migratory Species database only).

f. NMFS Office of the Chief Information Officer, 1315 East-West Highway, Silver Spring, MD 20910 (National Permits System).

g. NMFS Pacific Islands Region, 1845 Wasp Boulevard, Building 176, Honolulu, HI 96818.

h. NMFS Alaska Region, 709 West Ninth Street, Juneau, AK 99801.

i. NMFS Office of Science and Technology, 1315 East-West Highway, Silver Spring, MD 20910 (National Saltwater Angler Registry).

j. NMFS Office of International Affairs, 1315 East-West Highway, Silver Spring, MD 20910 (High Seas Fishing Compliance Act and Antarctic Marine Living Resources harvesting and dealer permit data).

k. NMFS Office of Sustainable Fisheries, 3209 Frederic St., Pascagoula, MS 39567 (Antarctic Marine Living Resources preauthorization certification data).

l. NMFS Office of Sustainable Fisheries, 1315 East-West Highway, Room 13130, Silver Spring, MD 20910 (Atlantic HMS Tuna vessel permits, HMS Angling Permit, HMS Charter/headboat permits database).

CATEGORIES OF INDIVIDUALS COVERED BY THE SYSTEM:

Owners or holders of a permit or registration as recognized by NMFS, owner agents, vessel owners, and/or operators. Individuals, who apply for any permit, permit exception, permit exemption or regulation exemption, registration, dedicated access privilege or fishing quota share either initially, annually, or by transfer. Applicants seeking permission to fish in a manner that would otherwise be prohibited in order to conduct experimental fishing. Owners of processing facilities and/or fish dealers. Permit qualifiers (persons whose incomes are used for permit qualification). Allocation assignees under a Southeast Region individual fishing quota.

CATAGORIES OF RECORDS IN THE SYSTEM:

This information is collected and/or maintained by all regions and divisions: For applicants and related entities referred to in regions/divisions: name, address, business telephone number and date of birth; Tax Identification Number (TIN), Employer Identification Number (EIN) or Social Security Number (SSN), required for all permits, under the authority 31 U.S.C. 7701. For purposes of administering the various NMFS fisheries permit and registration programs, a person shall be considered to be doing business with a Federal agency including, but not limited to, if the person is an applicant for, or recipient of, a Federal license, permit, right-of-way, grant, or benefit payment administered by the agency, or insurance administered by the agency pursuant to subsection (c)(2)(B) of 31 U.S.C 7701.

Additional information is collected and/or maintained by individual regions and divisions:

Greater Atlantic Region

For transferable permits: Current permit number, permit status information, type of application, name and type of applicant, cellular telephone number and/or fax number, hair and eye color, height and weight, ID-sized photograph, medical records for resolution of permit dispute, enforcement actions, court and legal documents, and permit sanction notice files by NOAA General Counsel, checking account numbers, cancelled checks, tax returns, internal permit number specific to each limited entry permit, baseline specifications on limited entry permit, country, captain's license, State and Federal Dealer Numbers (if applicable), name of incorporation, state and date of incorporation of business and articles of incorporation, coast on which dealer does business, processing sector, facilities where fish received, vessel landing receipts and records, dealer purchase receipts, bills of sale, type of vessel registration, NMFS unique vessel ID, year vessel built, hailing port, hailing port state, principal port, principal state, vessel operations type (catching and/or processing: for at-sea processing permit), fish hold capacity, passenger capacity, VMS status, crew size, fishery type, fishery management plan and category, maximum days at sea, quota allocation and shares, regional fishery management organization, species or species code, type of gear, gear code and rank, buoy and trap/pot color, number of tags assigned to vessel, number of traps, and dredge size and number.

Southeast Region

Fee payment information, applicant cellular telephone number and/or fax number, email address, Web site, gender, hair and eye color, height and weight, ID-sized photograph, corporation name, Dunn and Bradstreet Corporation Number, state and date of incorporation; for all entities with a business relationship (officer, owner or shareholder) to a wreckfish certificate holder, or with a business relationship (officer, owner or shareholder) to a vessel owner or vessel lessee, position held in the business, percent ownership of the business, and citizenship status; NMFS internal identification number, county, country, marriage certificate, divorce decree, death certificate, trust documents, probated will, enforcement actions, court and legal documents, and permit sanction notices files by General Counsel, name of vessel permit applicant if not owner, and relationship to owner, type of vessel ownership, captain's license, original permit, permit payment information, name of permit transferor and number of permit before transfer, permit and vessel sale price (for permit transfers), date of permit transfer signature, notarized, sale and lease agreement with lease start and end dates if applicable, income or license qualifier for certain fisheries, Income Qualification Affidavit for income qualified fisheries, U.S. importer number, State and Federal dealer numbers (if applicable), plant name and operator, hull identification number, hailing port and hailing port state, year vessel built, location where vessel built, vessel function, vessel characteristics (length, breadth, external markings, hull/or superstructure color), gross and net tonnage, type of construction, fuel capacity and type, horsepower (engine, pump), type of product storage, fish hold capacity, live well capacity, radio call sign, vessel communication types and numbers, crew size, passenger capacity, fishery type, quota shares, vessel landing receipts and records, bills of sale, processing facility where fish are received, gear type, species/gear endorsements, buoy/trap color code, number of traps, trap tag number series, trap dimensions, trap mesh size, designated fishing zone, aquaculture reports: site description, material deposited and harvested, value of material, Highly Migratory Species workshop certificate, informational telephone calls recorded with member of public's knowledge, (or customer service evaluation and constituent statement records); U.S. Citizenship or permanent resident alien status, facility name, address, telephone information (for dealer permits), and permit or license numbers for other Federal or state permit/licenses issued.

Atlantic Highly Migratory Species

Current permit number, permit status information, type of application, name and type of applicant, business email address, cellular telephone and/or fax number, Web site, corporation name and state and date of incorporation, Dunn and Bradstreet Corporation Number, percent/rank of ownership interest, lease start/end date, income or license qualifier for certain fisheries, United States Coast Guard (USCG) Certificate of Documentation number or state vessel registration number, U.S. Importer Number (dealers), State and Federal Dealer Numbers (if applicable), processing facility where fish are received, name of vessel, type of vessel registration, hull identification number, vessel characteristics (length, breadth, external markings, hull/or superstructure color), gross and net tonnage, type of construction, fuel capacity and type, horsepower (engine, pump), type of product storage, passenger capacity; crew size, hailing port, hailing port state, principal port, principal port state, fish hold capacity, year vessel built, fishery type, species or species code, type of fishing gear, gear code; vessel monitoring system (VMS) activation certification, vessel name, and vessel function.

West Coast Region

Northwest Permits: NMFS internal identification number, permit/license number, applicant or new permit/license owner name, (current and new) permit/license or vessel owner name, email address, name of authorized representative and title, permit action requested, midseason sablefish tier landed amount, application fee payment information (check/money order date, check/money order number, bank account number or credit card last 4 digits, check amount), copies of checks, divorce decree, marriage certificate, death certificate, probated will, trust documents, medical records of permit owners seeking exemption from certain permit requirements, proof of citizenship, enforcement actions and settlement agreements, power of attorney documents, affidavits, court and legal documents, articles of incorporation, state and date of incorporation, permit sanction notices, period of permit lease, permit sale/lease price, sales/lease agreement. vessel name and registration number, vessel length overall, location of where vessel built, documentation of loss or destruction of vessel, vessel registration documentation (USCG or state), names of entities/individuals having a share(s) in a corporate/business entity, percent of ownership interest in corporate/business entity, Small Business Act designation/certification, landing/delivery receipts/data and records, catch/delivery/processing history bill of lading, sales and contract agreements, amount of quota share for IFQ species associated with QS permit, mothership/catcher vessel endorsement and catch history identification number and amount of whiting catch history assignment, name of first receiver and landing facility contact, first receiver catch monitor plan, state scale inspection documentation, landing facility owner name, physical address of first receiving facility, mothership catcher vessels designation of whether it operate in coop or non-coop fishery and obligation to mothership permit (number), catcher processor designation of whether it will operate as mothership, mothership designation of whether it will operate solely as mothership, cooperative name, cooperative manager name, mutual exception agreements, mothership processing withdrawal certification, cooperative/membership agreement (list of members, permits, vessels, cooperative requirements, amendments), list of vessels participating in cooperative, list of permits and their obligation to a mothership permit. Southwest Permits: Permit status information, type of application, name of applicant and relationship to owner or owner manager if not owner or operator, and names of other individuals on application (vessel owner(s), owner's agent, dealer, corporation members), and position in company if applicable, corporation name, Dunn and Bradstreet Corporation Number, state and date of incorporation and articles of incorporation (if applicable), cellular telephone number and/or fax number, business email address, USCG Certificate of Documentation number or state vessel registration number, country, other federal, state and commercial licenses held by operator, name of permit transferor and number of permit before transfer, type of vessel (commercial fishing, charter), vessel photograph, hull identification number, hailing port, hailing port state, principal port, principal port state, year vessel built, where vessel built, maximum vessel speed, fish hold capacity, processing equipment, passenger capacity, crew size, international radio call sign, Vessel Monitoring System (VMS) status, dolphin safety gear on board, previous vessel flag, previous vessel name and effective dates, species/gear endorsements, fishery type, type of fishing gear, gear code, fishing status (active or inactive), intent to make intentional purse seine sets on marine mammals, date, location, and provider of most recent tuna purse seine marine mammal skipper workshop.

Pacific Islands Region

Current permit number, permit status information, type of application, name of applicant and of other individuals on application (vessel owner(s), owner's agent, dealer, corporation members), and position in company if applicable, corporation name, state and date of incorporation, cellular telephone number and/or fax number, email address, photograph identification, verification of citizenship or nationality, owner of checking account from which application processing fees made, date and number of check, enforcement actions, court and legal documents, and permit sanction notices filed by General Counsel, name of permit transferor and transferee and number of permit before transfer, letters of authorization or power of attorney, compliance with protected species workshop, USCG Certificate of Documentation number or state vessel registration number, vessel name, permits registered to vessel, international radio call sign, year vessel built, location where vessel built, endorsements, vessel markings and photograph, vessel refrigeration and capacity, fish hold capacity, communication types and addresses, fishery type, percent of ownership interest, ownership and catch history as basis for permit qualification or renewal vessel landing receipts and records, dealer purchase receipts, and bills of sale.

Alaska Region

Current permit number, permit status information, type of application, name of applicant and of other individuals on application (vessel owner(s), owner's agent, dealer, corporation members), and position in company if applicable, corporation name, state and date of incorporation and articles of incorporation (if applicable), cellular and/or fax telephone number, business email address, country, citizenship, NMFS internal identification number, USCG Certificate of Documentation number or state vessel registration number, vessel name, reference names, owner beneficiary, death certificate, marriage certificate, divorce decree, trust documents, probated will, medical information for emergency transfer of certain permits only, enforcement actions, court and legal documents, and permit sanction notices files by General Counsel, bank account number, canceled checks, tax returns, name of Alaska Native tribe, community of residence, fishery community organization, community governing body contact person, nonprofit name, community represented by nonprofit, cooperative representative, percent of ownership interest, permit restrictions, quota type, names of other quota holders if affiliated with any, cooperative member receiving quota against cap, names and relationship of permit transferor and transferee, transfer eligibility certificate, sector and region before transfer, reason for transfer, broker's name and fee, lien information (if applicable), quota transfer costs, permit financing source, permit fee, sale/lease agreement, period of lease, agreement to return shares (if applicable), and documentation of military service for certain quota leases; for crab rationalization: Affidavit that right of first refusal contracts were signed, number of units and pounds of fish transferred, applicable dealer license numbers, processing plant name and identification, operation type and operator, type of vessel registration, State of Alaska registration number, NMFS vessel identification number, hull identification number, hailing port and hailing port state, vessel breadth, gross tonnage, fuel capacity and horsepower, numbers of existing permits if applicable to current application, documentation of loss or destruction of a vessel, list of vessels in a vessel cooperative, vessel operations type in terms of catching and/or processing, species/gear endorsements for fisheries requiring vessel monitoring systems, fishery type, species or species code, fishery management plan, days at sea allocations, quota shares, type of fishing gear, gear code, vessel landing receipts and records, bills of sale, delivery receipts, dealer purchase receipts, and processing sector and facility where fish are received.

High Seas Fishing Compliance Act

Name of applicant and of other individuals on application (vessel owner(s), vessel operator(s), owner's agent, dealer, corporation members), citizenship, cellular telephone and/or fax number, email, positions of individuals in company if applicable, corporation name, State and date of incorporation (if applicable), current permit number, permit status information, type of application, internal identification number, percent/rank of ownership interest, hull identification number, vessel photograph, type of vessel registration, USCG Certificate of Documentation number or state vessel registration number, vessel name, year vessel built, where vessel built, fish hold capacity, hailing port, hailing port state, crew size, international radio call sign, previous vessel flag, previous vessel name, fishery type, fishery management plan, regional fishery management organization, type of vessel, vessel code, and vessel refrigeration type.

Antarctic Marine Living Resources

Current permit number, permit status information, type of application, name of applicant and of other individuals on application (vessel owner(s), owner's agent, dealer, corporation members), and position in company if applicable, corporation name, state and date of incorporation and articles of incorporation (if applicable), nationality, cellular telephone and/or fax number, type of vessel (commercial fishing, charter), where vessel built, year vessel built, fish hold capacity, USCG Certificate of Documentation number or state vessel registration number, vessel name, International Maritime Organization number (if issued), vessel communication types and serial numbers, details of tamper-proof VMS elements, ice classification, processing equipment, international radio call sign, foreign vessel flag, previous vessel flag, previous vessel name, permit number of supporting foreign vessel, crew size, species code, type of fishing gear, information on the known and anticipated impacts of bottom trawling gear on vulnerable marine ecosystems, species and amount to be imported, and the products to be derived from an anticipated catch of krill.

National Saltwater Angler Registry Program

Email address, business telephone number, designation as owner-operator or for-hire vessel, vessel name and registration/documentation number, and a statement of the region(s) in which the registrant fishes.

AUTHORITY FOR MAINTENANCE OF THE SYSTEM:

Magnuson-Stevens Fishery Conservation and Management Act, 16 U.S.C. 1801 et seq. (Magnuson-Stevens Act); High Seas Fishing Compliance Act of 1995, 16 U.S.C. 5501 et seq.; International Fisheries Regulations: Vessels of the United States Fishing in Colombian Treaty Waters, 50 CFR 300.120; the American Fisheries Act, Title II, Public Law 105-277; the Atlantic Coastal Fisheries Cooperative Management Act of 1993, 16 U.S.C. 5101-5108, as amended 1996; the Tuna Conventions Act of 1950, 16 U.S.C. 951-961; the Atlantic Tunas Convention Authorization Act, 16 U.S.C., Chapter 16A; the Northern Pacific Halibut Act of 1982, 16 U.S.C. 773 et seq. (Halibut Act); the Antarctic Marine Living Resources Convention Act of 1984, 16 U.S.C. 2431-2444; the Western and Central Pacific Fisheries Convention Implementation Act, 16 U.S.C. 6901 et seq. (WCPFCIA); the Marine Mammal Protection Act, 16 U.S.C. 1361; and Taxpayer Identifying Number, 31 U.S.C. 7701.

PURPOSES:

This information will allow NMFS to identify owners and holders of permits and non-permit registrations; identify vessel owners and operators; evaluate requests by applicants and current participants, or agency actions, related to the issuance, renewal, transfer, revocation, suspension or modification of a permit or registration.

ROUTINE USES OF RECORDS MAINTAINED IN THE SYSTEM, INCLUDING CATEGORIES OF USERS AND PURPOSES OF SUCH USES:

1. In the event that a system of records maintained by the Department to carry out its functions indicates a violation or potential violation of law or contract, whether civil, criminal or regulatory in nature and whether arising by general statute or particular program statute or contract, rule, regulation, or order issued pursuant thereto, or the necessity to protect an interest of the Department, the relevant records in the system of records may be referred to the appropriate agency, whether Federal, State, local, or foreign, charged with the responsibility of investigating or prosecuting such violation or charged with enforcing or implementing the statute or contract, rule, regulation, or order issued pursuant thereto, or protecting the interest of the Department.

2. A record from this system of records may be disclosed, as a routine use, in the course of presenting evidence to a court, magistrate or administrative tribunal, including disclosures to opposing counsel representing the requester and/or subject of the records in the course of settlement negotiations.

3. A record in this system of records may be disclosed to a Member of Congress submitting a request involving an individual when the individual has requested assistance from the Member with respect to the subject matter of the record.

4. A record in this system of records may be disclosed, as a routine use, to the Department of Justice in connection with determining whether disclosure thereof is required by the Freedom of Information Act (5 U.S.C. 552).

5. A record in this system will be disclosed to the Department of Treasury for the purpose of reporting and recouping delinquent debts owed the United States pursuant to the Debt Collection Improvement Act of 1996.

6. A record in this system may be disclosed to the Department of Homeland Security for the purposes of determining the admissibility of certain seafood imports into the United States.

7. A record in this system of records may be disclosed, as a routine use, to a contractor of the Department having need for the information in the performance of the contract, but not operating a system of records within the meaning of 5 U.S.C. 552a(m).

8. A record in this system of records may be disclosed to approved persons at the state or interstate level within the applicable Marine Fisheries Commission for the purpose of co-managing a fishery or for making determinations about eligibility for permits when state data are all or part of the basis for the permits.

9. A record in this system of records may be disclosed to the applicable Fishery Management Council (Council) staff and contractors tasked with the development of analyses to support Council decisions about Fishery Management Programs.

10. A record in this system of records may be disclosed to the applicable NMFS Observer Program for purposes of identifying current permit owners and vessels and making a random assignment of observers to vessels in a given fishing season.

11. A record in this system of records may be disclosed to the applicable regional or international fisheries management body for the purposes of identifying current permit owners and vessels pursuant to applicable statutes or regulations and/or conservation and management measures adopted by a regional or international fisheries management body, such as: The Food and Agriculture Organization of the United Nations, Commission for the Conservation of Antarctic Marine Living Resources, Inter-American Tropical Tuna Commission, International Pacific Halibut Commission, and International Commission for the Conservation of Atlantic Tunas.

12. A record in this system of records may be disclosed to appropriate agencies, entities, and persons when: (1) It is suspected or determined that the security or confidentiality of information in the system of records has been compromised; (2) the Department has determined that as a result of the suspected or confirmed compromise there is a risk of harm to economic or property interests, identify theft or fraud, or harm to the security or integrity of this system or other systems or programs (whether maintained by the Department or another agency) that rely upon the compromised information; and (3) the disclosure made to such agencies, entities, and persons is reasonably necessary to assist in connection with the Department's efforts to respond to the suspected or confirmed compromise and prevent, minimize, or remedy such harm.

DISCLOSURE TO CONSUMER REPORTING AGENCIES:

Disclosure to consumer reporting agencies pursuant to 5 U.S.C. 552a(b)(12) may be made from this system to “consumer reporting agencies” as defined in the Fair Credit Reporting Act (15 U.S.C. 1681a(f)) and the Federal Claims Collection Act of 1966 (31 U.S.C. 3701(a)(3)).

POLICIES AND PRACTICES FOR STORING, RETRIEVING, ACCESSING, RETAINING, AND DISPOSING OF RECORDS IN THE SYSTEM:

STORAGE:

Computerized database; CDs; back-up files stored on tape, paper records stored in file folders in locked metal cabinets and/or locked rooms.

RETRIEVABILITY:

Records are organized and retrieved by NMFS internal identification number, name of entity, permit number, vessel name or identification number, or processing plant name. Records can be accessed by any file element or any combination thereof.

SAFEGUARDS:

The system of records is stored in a building with doors that are locked during and after business hours. Visitors to the facility must register with security guards and must be accompanied by Federal personnel at all times. Records are stored in a locked room and/or a locked file cabinet. Electronic records containing Privacy Act information are protected by a user identification/password. The user identification/password is issued to individuals as authorized by authorized personnel.

All electronic information disseminated by NOAA adheres to the standards set out in Appendix III, Security of Automated Information Resources, OMB Circular A-130; the Computer Security Act (15 U.S.C. 278g-3 and 278g-4); and the Government Information Security Reform Act, Public Law 106-398; and follows NIST SP 800-18, Guide for Developing Security Plans for Federal Information Systems; NIST SP 800-26, Security Self-Assessment Guide for Information Technology Systems; and NIST SP 800-53, Recommended Security Controls for Federal Information Systems.

RETENTION AND DISPOSAL:

All records are retained and disposed of in accordance with National Archive and Records Administration regulations (36 CFR Chapter XII, Subchapter B—Records Management); Departmental directives and comprehensive records schedules; NOAA Administrative Order 205-01; and the NMFS Records Disposition Schedule, Chapter 1500.

SYSTEM MANGER(S) AND ADDRESS:

For records at location a.: Division Chief, Fisheries Statistics Office, NMFS Greater Atlantic Region, NMFS Greater Atlantic Region, 55 Great Republic Dr., Gloucester, MA 01930.

For records at location b.: Assistant Regional Administrator for Operations, Management, and Information Services, NMFS Southeast Region, 263 13th Avenue South, St. Petersburg, FL 33701.

For records at location c.: Permit Team Leader, NMFS West Coast Region, Sustainable Fisheries Division, 7600 Sand Point Way NE., Bldg. #1, Seattle, WA 98115.

For records at location d.: Permits Specialist, NMFS West Coast Region, 501 West Ocean Boulevard, Suite 4200, Long Beach, CA 90802.

For records at location e.: Supervisory IT Specialist, NMFS Southwest Fisheries Science Center, 8604 La Jolla Shores Drive, La Jolla, CA 92037 (Pacific Highly Migratory Species database only).

For records at location f.: Supervisory IT Specialist, NMFS Office of the Chief Information Officer, 1315 East-West Highway, Silver Spring, MD 20910 (National Permits System).

For records at location g.: Information/Permit Specialist, Sustainable Fisheries Division, NMFS Pacific Islands Region, 1845 Wasp Boulevard, Building 176, Honolulu, HI 96818.

For records at location h.: Information/Permit Specialist, Sustainable Fisheries Division, NMFS Alaska Region, 709 West Ninth Street, Juneau, AK 99801.

For records at location i.: Chief, Fisheries Statistics Division, NMFS Office of Science and Technology, 1315 East-West Highway, Silver Spring, MD 20910 (National Saltwater Angler Registry).

For records at location j.: Fishery Management Specialist, Office of International Affairs, 1315 East-West Highway, Silver Spring, MD 20910 (High Seas Fishing Compliance Act and Antarctic Marine Living Resources harvesting and dealer permit data).

For records at location k.: Fishery Biologist, NMFS Office of Sustainable Fisheries, 3209 Frederic St., Pascagoula, MS 39567 (Antarctic Marine Living Resources preauthorization certification data).

For records at location l.: Division Chief, Highly Migratory Species Management (F/SF1), NMFS 1315 East-West Highway, Room 13458, Silver Spring, MD 20910 (Atlantic HMS Tuna vessel permits, HMS Angling Permit, HMS Charter/headboat permits database).

NOTIFICATION PROCEDURE:

Individuals seeking to determine whether information about themselves is contained in this system should address written inquiries to the national or regional Privacy Act Officer:

Privacy Act Officer, NOAA, 1315 East-West Highway, Room 10641, Silver Spring, MD 20910.

Privacy Act Officer, NMFS Greater Atlantic Region, 55 Great Republic Dr., Gloucester, MA 01930.

Privacy Act Officer, NMFS Southeast Region, 263 13th Avenue South, St. Petersburg, FL 33701.

Privacy Act Officer, NMFS West Coast Region, 7600 Sand Point Way NE., Bldg. #1, Seattle, WA 98115.

Privacy Act Officer, NMFS West Coast Region, 501 West Ocean Boulevard, Suite 4200, Long Beach, CA 90802.

Privacy Act Officer, NMFS Pacific Islands Region, 1845 Wasp Boulevard, Building 176, Honolulu, HI 96818.

Privacy Act Officer, NMFS Alaska Region, P.O. Box 21668, Juneau, Alaska 99802, or delivered to the Federal Building, 709 West 9th Street, Juneau, Alaska 99801.

Written requests must be signed by the requesting individual. Requestor must make the request in writing and provide his/her name, address, and date of the request and record sought. All such requests must comply with the inquiry provisions of the Department's Privacy Act rules which appear at 15 CFR part 4, Appendix A.

RECORD ACCESS PROCEDURES:

Requests for access to records maintained in this system of records should be addressed to the same address given in the Notification section above. Note: Complete records for jointly held permits are made accessible to each holder upon his/her request.

The Department's rules for access, for contesting contents, and appealing initial determinations by the individual concerned are provided for in 15 CFR part 4, Appendix A.

RECORD SOURCE CATEGORIES:

Information in this system will be collected from individuals applying for a permit or registration or from an entity supplying related documentation regarding an application, permit, or registration.

EXEMPTIONS CLAIMED FOR THE SYSTEM:

None.

Dated: August 3, 2015.
Michael J. Toland,
Department of Commerce, Acting Freedom of Information/Privacy Act Officer.

[FR Doc. 2015-19451 Filed 8-6-15; 8:45 am]

BILLING CODE 3510-22-P